DEPARTMENT OF JUSTICE

Notice of Lodging Proposed Consent Decree

In accordance with Departmental Policy, 28 CFR 50.7, notice is hereby given that a proposed consent decree in United States of America v. The Town of Erie, Colorado, et al., Case No. 03-M-0890 (OES) (D. Colo.), was lodged with the United States District Court for the District of Colorado on May 16, 2003. This proposed Consent Decree concerns a complaint filed by the United States of America against the Town of Erie, Colorado, Grimm Construction Company, Inc., Bemas Construction, Inc. and the State of Colorado, pursuant to Sections 309(b) and (d) of the Clean Water Act, 33 U.S.C. 1319(b) and (d), to obtain injunctive relief from and impose civil penalties against the Town of Erie, Colorado, Grimm Construction Company, Inc., and Bemas Construction, Inc. for the discharge of pollutants into waters of the United States in Boulder County, Colorado without authorization by the United States Department of the Army, in violation of Clean Water Act section 301(a), 33 U.S.C. 1311(a).

The proposed Consent Decree requires the Town of Erie to provide for the performance of wetlands mitigation work described in the consent decree.

The Department of Justice will accept written comments relating to this proposed Consent Decree for thirty (30) days from the date of publication of this notice. Please address comments to Alan D. Greenberg, U.S. Department of Justice, 999 18th Street, Suite 945, Denver, CO 80202 and refer to United States of America v. The Town of Erie, Colorado, et al., DJ #90-5-1-4-16110.

The proposed Consent Decree may be examined at the Clerk's Office, United States District Court for the District of Colorado, 901 19th Street, Denver, CO 80294. In addition, the proposed Consent Decree may be viewed on the World Wide Web at http://www.usdoj.gov/enrd/open.html.

Letitia J. Grishaw,
Chief, Environmental Defense Section, Environment & Natural Resources Division.

[FR Doc. 03-13475 Filed 5-29-03; 8:45 am]

BILLING CODE 4410-15-M